FEDERAL HOUSING FINANCE BOARD

[No. 2007-N-04]

Proposed Collection; Comment Request

AGENCY: Federal Housing Finance Board.

ACTION: Notice.

SUMMARY: In accordance with the requirements of the Paperwork Reduction Act of 1995, the Federal Housing Finance Board (Finance Board) is seeking public comments concerning the information collection known as “Members of the Banks,” which has been assigned control 3069-0004 by the Office of Management and Budget (OMB). The Finance Board intends to submit the information collection to OMB for review and approval of a 3 year extension of the control number, which is due to expire on May 31, 2007.

DATES: Interested persons may submit comments on or before April 16, 2007.

Comments: Submit comments only once by any of the following methods:

E-mail: comments@fhfb.gov.

Fax: 202-408-2580.

Mail/Hand Delivery: Federal Housing Finance Board, 1625 Eye Street, NW., Washington DC 20006, ATTENTION: Public Comments.

Federal eRulemaking Portal: http://www.regulations.gov. Follow the instructions for submitting comments.

Include the following information in the subject line of your submission: Federal Housing Finance Board. Proposed Collection; Comment Request: Members of the Banks. 2007-N-04.

We will post all public comments we receive on this notice without change, including any personal information you provide, such as your name and address, on the Finance Board Web site at http://www.fhfb.gov/Default.aspx?Page=93.

FOR FURTHER INFORMATION CONTACT: Jonathon F. Curtis, Senior Financial Analyst, Supervisory & Regulatory Policy, Office of Supervision, by e-mail at curtisj@fhfb.gov, by telephone at 202-408-2866, or by regular mail at the Federal Housing Finance Board, 1625 Eye Street, NW., Washington DC 20006.

SUPPLEMENTARY INFORMATION:

A. Need for and Use of the Information Collection

Section 4 of the Federal Home Loan Bank Act (Bank Act) establishes the eligibility requirements an institution must meet in order to become a member of a Federal Home Loan Bank (Bank). See 12 U.S.C. 1424. Part 925 of the Finance Board regulations—the membership rule—implements section 4 of the Bank Act. See 12 CFR part 925. The membership rule provides uniform requirements an applicant for Bank membership must meet and review criteria a Bank must apply to determine if an applicant satisfies the statutory and regulatory membership eligibility requirements.

More specifically, the membership rule implements the statutory eligibility requirements and provides guidance to an applicant on how it may satisfy such requirements. The rule authorizes a Bank to approve or deny each membership application subject to the statutory and regulatory requirements and permits an applicant to appeal to the Finance Board a Bank's decision to deny certification as a Bank member. The rule also imposes a continuing obligation on a current Bank member to provide information necessary to determine if it remains in compliance with applicable statutory and regulatory eligibility requirements.

The information collection is contained in sections 925.2 through 925.31 of the membership rule, 12 CFR 925.2-925.31, and chapter 2 of the Data Reporting Manual, which contains instructions addressing data definitions as well as requirements concerning data elements, reporting format, reporting method (e.g., electronic or paper), record retention, timeliness, reporting frequency, and certification.¹ This information collection is necessary to enable a Bank to determine if a respondent satisfies the statutory and regulatory requirements to be certified initially and maintain its status as a member eligible to obtain Bank advances. The Finance Board requires and uses the information collection to determine whether to uphold or overrule a Bank's decision to deny member certification to an applicant.

¹ The Data Reporting Manual is available electronically on the Finance Board Web site: http://www.fhfb.gov/Default.aspx?Page=101.

The OMB control number for the information collection is 3069-0004, which is due to expire on May 31, 2007. The likely respondents are institutions that want to be certified as or are members of a Bank.

B. Burden Estimate

The Finance Board estimates the total annual average number of applicants at 300, with 1 response per applicant. The estimate for the average hours per application is 21.5 hours. The estimate for the annual hour burden for applicants is 6,450 hours (300 applicants × 1 response per applicant × 21.5 hours per response).

The Finance Board estimates the total annual average number of maintenance respondents, i.e., current Bank members, at 8,100, with 1 response per member. The estimate for the average hours per maintenance response is 0.6 hours. The estimate for the annual hour burden for Bank members is 4,860 hours (8,100 members × 1 response per member × 0.6 hours per response). The estimate for the total annual hour burden for all respondents is 11,310 hours.

C. Comment Request

The Finance Board requests written comments on the following: (1) Whether the collection of information is necessary for the proper performance of Finance Board functions, including whether the information has practical utility; (2) the accuracy of the Finance Board's estimates of the burdens of the collection of information; (3) ways to enhance the quality, utility, and clarity of the information collected; and (4) ways to minimize the burden of the collection of information on respondents, including through the use of automated collection techniques or other forms of information technology.

Dated: February 9, 2007.
By the Federal Housing Finance Board.
Neil R. Crowley,
Acting General Counsel.

[FR Doc. E7-2574 Filed 2-13-07; 8:45 am]

BILLING CODE 6725-01-P